DEPARTMENT OF COMMERCE

National Oceanic and Atmospheric Administration

Proposed Information Collection; Comment Request; Input From Hawaii's Boat-based Anglers

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 5, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Christopher Hawkins, (808) 944-2291 or Christopher.Hawkins@noaa.gov.

SUPPLEMENTARY INFORMATION:

I. Abstract

This request is for a new information collection. The Magnuson-Stevens Fishery Conservation and Management Act (MSA) requires anglers who (1) engage in angling or spearfishing for fish in the Exclusive Economic Zone (EEZ); anadromous species in any tidal waters; or continental Shelf fishery resources beyond the EEZ, (2) operate a for-hire fishing vessel in the EEZ, (3) operate a for-hire fishing vessel that engages in angling or spearfishing for: anadromous species in any tidal waters; or continental shelf fishery resources beyond the EEZ, (4) possess equipment used for angling or spearfishing and also possesses: Fish in the EEZ; anadromous species in any tidal waters; or continental shelf fishery resources beyond the EEZ to register annually with the National Angler Register. Those in states which have received exempted status per regulations at 600 CFR 1415-17 need not register with NMFS. Under 600 CFR 1417, MSA allows NMFS to exempt a State that has developed a qualifying regional survey that meets the Marine Recreational Information Program's National Data Standards.

The State of Hawaii is developing a comprehensive data collection program that will meet the requirements set forth at 600CFR 1417 and exempt the State's anglers from the national registry requirement. The information gathered from the proposed voluntary survey of a sample of the State's registered boaters will be used to develop an ongoing (monitoring) survey of fishing catch and effort derived from Hawaii's private boaters—a required component of any qualifying regional survey. The survey instrument will also collect information to inform engagement of and projects aimed at local boat-based anglers under NOAA's National Recreational Saltwater Fishing Initiative.

II. Method of Collection

The survey instrument will be mailed to respondents using the address they provided to the State's Division of Boating and Ocean Recreation. The survey packet will include a personalized cover letter and a postage-paid, pre-addressed return envelope.

III. Data

OMB Control Number: None.

Form Number: None.

Type of Review: Regular submission (new information collection).

Affected Public: Non-profit institutions; State, local, or tribal government; business or other for-profit organizations.

Estimated Number of Respondents: 1,000.

Estimated Time per Response: 20 minutes.

Estimated Total Annual Burden Hours: 334.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 31, 2012.
Gwellnar Banks,
Management Analyst, Office of the Chief Information Officer.

[FR Doc. 2012-21924 Filed 9-5-12; 8:45 am]

BILLING CODE 3510-22-P